DEPARTMENT OF ENERGY

Federal Energy Regulatory Commission

[Project No. 4656-020]

Boise-Kuna Irrigation District, Nampa & Meridian Irrigation District, New York Irrigation District, Wilder Irrigation District, and Big Bend Irrigation District; Notice of Application for Amendment of License and Soliciting Comments, Motions To Intervene, and Protests

September 26, 2007.

Take notice that the following hydroelectric application has been filed with the Commission and is available for public inspection:

a. Application Type: Amendment of License.

b. Project No.: 4656-020.

c. Date Filed: August 1, 2007.

d. Applicant: Boise-Kuna Irrigation District, Nampa & Meridian Irrigation District, New York Irrigation District, Wilder Irrigation District, and Big Bend Irrigation District (Districts).

e. Name of Project: Arrowrock Dam Hydroelectric Project.

f. Location: The project will be located at the U.S. Bureau of Reclamation's (Reclamation) existing Arrowrock Dam and Reservoir on the South Fork of the Boise River, in Elmore and Ada Counties, Idaho. Parts of the project would occupy lands managed by Reclamation and the U.S. Corps of Engineers and lands managed by the U.S. Forest Service within the Boise National Forest.

g. Filed Pursuant to: Federal Power Act, 16 U.S.C. 791a-825r.

h. Applicant Contact: Albert P. Barker, Barker Rosholt & Simpson LLP, 1010 West Jefferson Street, Suite 102, Boise, Idaho 83701; telephone (208) 336-0700.

i. FERC Contact: Linda Stewart, telephone (202) 502-6680, and e-mail: linda.stewart@ferc.gov.

j. Deadline for filing comments, motions to intervene, and protest: October 29, 2007.

All documents (original and eight copies) should be filed with: Secretary, Federal Energy Regulatory Commission, 888 First Street, NE., Washington, DC 20426.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Request: (1) Extension of Time: The Districts request an extension of time for the commencement of project construction to December 13, 2009, pursuant to Public Law 109-383. The Districts also propose changes, where necessary, to dates or time periods specified in various license articles such that the dates or time periods for taking action would be tied to an order amending the project license; (2) Amendment to Project Design: The Districts propose to install two 7.5-megawatt (MW) generating units with a total installed capacity of 15 MW instead of installing two 30-MW generating units with a total installed capacity of 60 MW, as authorized in the March 27, 1989 Order Issuing License. The Districts also propose to change the project's transmission line, which would decrease in length by approximately 10 miles and would eliminate the need to use any lands managed by the Bureau of Land Management. The Districts request the deletion and/or revision of certain license articles that are directly related to the above proposed design changes.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. E7-19780 Filed 10-5-07; 8:45 am]

BILLING CODE 6717-01-P